DEPARTMENT OF THE INTERIOR

Bureau of Reclamation

Southern Delivery System Project, Colorado

AGENCY: Bureau of Reclamation, Interior.

ACTION: Notice for additional public commenting opportunity on the water quality analysis portion of the Draft Environmental Impact Statement (Draft EIS).

SUMMARY: The Bureau of Reclamation (Reclamation), under the National Environmental Policy Act of 1969, is announcing the opportunity to provide additional comments on the water quality analysis portion of the Draft EIS. The original 60-day comment period for the Draft EIS was scheduled to end on April 26, 2008 but was extended to June 13, 2008. Comments received during this period expressed a concern about the section addressing water quality analysis. In order to address these comments, an additional water quality analysis is being prepared for the Draft EIS. This analysis will augment and reinforce the existing analysis for the Draft EIS. Reclamation will continue to receive comments on the existing water quality portion of the Draft EIS while the additional analysis is performed.

DATES: Comments on the existing water quality analysis featured in the DEIS will be received until provided by future notice. When completed the additional analysis will be made available for public review and comment during a 45-day period. The availability of the additional analysis and the corresponding 45-day comment period will be announced in the Federal Register on a future date in 2008.

ADDRESSES: Send comments on the Draft EIS to Southern Delivery System EIS, Bureau of Reclamation, Eastern Colorado Area Office, 11056W. County Road 18E, Loveland, CO 80537.

FOR FURTHER INFORMATION CONTACT: Kara Lamb, telephone: (970) 962-4326 or FAX (970) 962-3212. You may submit e-mail to klamb@gp.usbr.gov by September 22, 2008.

SUPPLEMENTARY INFORMATION: Before including your name, address, phone number, e-mail address, or other personal identifying information in your comment, you should be aware that your entire comment—including your personal identifying information—may be made publicly available at any time. While you can ask us in your comment to withhold your personal identifying information from public review, we cannot guarantee that we will be able to do so.

Dated: August 18, 2008.
Michael J. Ryan,
Regional Director, Great Plains Region.

[FR Doc. E8-19612 Filed 8-22-08; 8:45 am]

BILLING CODE 4310-MN-P